DEPARTMENT OF AGRICULTURE

Farm Service Agency

Notice of Request for Extension of Currently Approved Information Collection

AGENCY: Farm Service Agency, USDA.

ACTION: Notice and request for comments.

SUMMARY: In accordance with the Paperwork Reduction Act of 1995, this notice announces the intent of the Farm Service Agency (FSA) to request an extension of currently approved information collections for a form used in support of the FSA, Farm Loan Programs (FLP). This renewal does not involve any revisions to the program regulations.

DATES: Comments on this notice must be received on or before March 20, 2000 to be assured consideration.

FOR FURTHER INFORMATION CONTACT: Mike Hinton, Branch Chief, USDA, Farm Service Agency, Loan Making Division, 1400 Independence Avenue, SW, STOP 0522, Washington, DC 20013-0522; Telephone (202) 720-1764; Electronic mail: mikehinton@wdc.fsa.usda.gov.

SUPPLEMENTARY INFORMATION: Title: Request for Direct Loan Assistance.

OMB Control Number: 0560-0167.

Expiration Date of Approval: April 30, 2000.

Type of Request: Extension of Currently Approved Information Collection.

Abstract: Form FSA-410-1 is used for collecting information for making eligibility and financial feasibility determinations on respondents' requests for direct operating, farm ownership, and emergency loans and for currently indebted borrowers requesting loan servicing assistance as authorized under the Consolidated Farm and Rural Development Act, as amended.

Estimate of Burden: Public reporting burden for this collection of information is estimated to average 1.02 hours per response.

Respondents: Individuals or households, businesses or other for-profit enterprises, and farms.

Estimated Number of Respondents: 49,670.

Estimated Number of Responses per Respondent: 1.

Estimated Total Annual Burden on Respondents: 50,476.

Comments are sought on these requirements including: (a) Whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collections techniques or other forms of information technology.

These comments should be sent to the Desk Office for Agriculture, Office of Information and Regulatory Affairs, Office of Management and Budget, Washington, DC 20503 and to Mike Hinton, USDA, FSA, Farm Loan Programs, Loan Making Division, 1400 Independence Avenue, SW, STOP 0522, Washington DC 20250-0522. Copies of the information collection may be obtained from Mike Hinton at the above address. Comments regarding paperwork burden will be summarized and included in the request for OMB approval of the information collection. All comments will also become a matter of public record.

Signed in Washington, DC, on January 11, 2000.
Keith Kelly,
Administrator, Farm Service Agency.

[FR Doc. 00-1278 Filed 1-19-00; 8:45 am]

BILLING CODE 3410-05-P